DEPARTMENT OF VETERANS AFFAIRS

VA Directive and Handbook 5021, Employee/Management Relations

AGENCY: Department of Veterans Affairs.

ACTION: Notice with request for comments.

SUMMARY: The Department of Veterans Affairs is making a technical amendment to VA Handbook 5021, Employee/Management Relations, dated April 15, 2002, to correct the citation for the Secretary's authority to issue regulations. Section 7421 of Title 38 provides the authority for the Secretary to prescribe by regulation the hours and conditions of employment and leaves of absence of employees appointed under any provisions of this chapter in positions in the Veterans Health Administration listed in subsection (b). Section 7304 of Title 38 provides the authority for the Under Secretary for Health to prescribe all regulations necessary to the administration of the Veterans Health Administration. VA Directive and Handbook 5021 was issued pursuant to the Secretary's authority under Section 7421. Two technical amendments are needed in VA Handbook 5021 to properly reflect the authority of the Secretary to issue regulations under 38 U.S.C. 7421. The first revision in Part II, Chapter 1, section 2, will replace the citation to 38 U.S.C. 7304 with the citation to 38 U.S.C. 7421 as the Secretary's authority to issue these regulations. The second revision in Part II, Chapter 2, section 2, will add the citation to the Secretary's authority. The current citation to 38 U.S.C. 7304 remains appropriate and unchanged as this Chapter issues delegations of authority by the Under Secretary for Health. The words or phrases that are proposed to be added to the regulations are shown in brackets. Only those sections of the existing regulations that contain proposed changes are included in this notice.

DATES: Comments must be received on or before November 27, 2006. Comments will be available for public inspection October 27. The proposed effective date of these amendments is 30 days after publication of this notice.

ADDRESSES: Send written comments to: Director, Regulations Management (00REG1), Department of Veterans Affairs, 810 Vermont Avenue, NW., Washington, DC 20420.

FOR FURTHER INFORMATION CONTACT: Catherine Baranek, Employee Relations Specialist, Department of Veterans Affairs, Office of Human Resources Management (051E), 810 Vermont Avenue, NW., Washington, DC 20420. Ms. Baranek may be reached at (336) 631-5019.

SUPPLEMENTARY INFORMATION: (none).

Proposed Revisions to VA Handbook 5021, Employee/Management Relations

Part II. Disciplinary Procedures Under Title 38

Chapter 1. Disciplinary and Major Adverse Actions

2. Authority

a. Section 203 of the Department of Veterans Affairs Health Care Personnel Act of 1991 Public Law (Pub. L.) 102-40.

b. 38 U.S.C. 501(a), 38 U.S.C. [7421].

c. Title 38, U.S.C., chapter 74.

Part II. Disciplinary Procedures Under Title 38

Chapter 2. Delegations

1. Scope. This chapter contains the authorities as delegated by the Under Secretary for Health for proposing and deciding on disciplinary and major adverse actions. The Under Secretary for Health retains the authority to appoint individuals as members of the Disciplinary Appeal Board Panel.

2. Authority

a. Title 38, U.S.C., Chapter 74.

b. [38 U.S.C. 7421] 38 U.S.C. 7304.

c. VA Directive 5021.

Dated: October 23, 2006.
R. James Nicholson,
Secretary of Veterans Affairs.

[FR Doc. E6-18060 Filed 10-26-06; 8:45 am]

BILLING CODE 8320-01-P